DEPARTMENT OF THE INTERIOR

National Park Service

Release of an Environmental Assessment Document for the Placement of Wireless Telecommunication Facilities

AGENCY: Catoctin Mountain Park, National Park Service, Interior.

ACTION: Notice of document availability.

SUMMARY: Catoctin Mountain Park will release for public review, the Environmental Assessment document for the application regarding the placement of wireless telecommunication facilities (WTF). On May 15, 2002, Verizon Wireless submitted an application for locating four wireless telecommunication facilities (WTF), each consisting of a monopole, attached antennas, associated cables, and a support equipment building at up to four different locations within Catoctin Mountain Park, a unit of the National Park Service. It is the responsibility of Catoctin Mountain Park and the purpose of the Environmental Assessment to evaluate the impacts by the proposed wireless telecommunication facilities on the park environs. The EA addresses several alternatives for placement of the WTF inside and outside park property. Two public information meetings will be held on April 29, 2003 and May 1, 2003.

DATES: Environmental Assessment release date—April 18, 2003.

Document Availability: The Environmental Assessment document will be available for public review at Catoctin Mountain Park headquarters located at 6602 Foxville Road, Thurmont Maryland, at Washington County Library (Hagerstown and Smithsburg branches) and Frederick County Library (Frederick and Thurmont branches) and online at the Catoctin Mountain Park's Web site http://www.nps.gov/cato.

FOR FURTHER INFORMATION CONTACT: Scott Bell, Environmental Protection Specialist, 301/416-0536.

Dated: April 7, 2003.
J. Mel Poole,
Superintendent, Catoctin Mountain Park.

[FR Doc. 03-9213 Filed 4-14-03; 8:45 am]

BILLING CODE 4310-70-P